FEDERAL COMMUNICATIONS COMMISSION

47 CFR Part 73

[DA 02-3419]

Radio Broadcasting Services; Various Locations

AGENCY: Federal Communications Commission.

ACTION: Final rule.

SUMMARY: The Commission, on its own motion, editorially amends the Table of FM Allotments to specify the actual classes of channels allotted to various communities. The changes in channel classifications have been authorized in response to applications filed by licensees and permittees operating on these channels. This action is taken pursuant to Revision of Section 73.3573(a)(1) of the Commission's Rules Concerning the Lower Classification of an FM Allotment, 4 FCC Rcd 2413 (1989), and the Amendment of the Commission's Rules to Permit FM Channel and Class Modifications [Upgrades] by Applications, 8 FCC Rcd 4735 (1993).

DATES: Effective January 21, 2003.

FOR FURTHER INFORMATION CONTACT: Kathleen Scheuerle, Media Bureau, (202) 418-2180.

SUPPLEMENTARY INFORMATION: This is a summary of the Commission's Report and Order, adopted December 13, 2002, and released December 16, 2002. The full text of this Commission decision is available for inspection and copying during regular business hours at the FCC Reference Information Center, Portals II, 445 12th Street, SW., Room CY-A257, Washington, DC 20554. This document may also be purchased from the Commission's duplicating contractor, Qualex International, Portals II, 445 12th Street, SW., Room CY-B402, Washington, DC 20554, telephone 202-863-2893, facsimile 202-863-2898, or via e-mail qualexint@aol.com.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Alabama, is amended by removing Channel 279A and adding Channel 279C3 at Andalusia.

3. Section 73.202(b), the Table of FM Allotments under Arizona, is amended by removing Channel 264A and adding Channel 264C1 at Duncan.

4. Section 73.202(b), the Table of FM Allotments under Colorado, is amended by removing Channel 222A and adding Channel 222C1 at Holyoke and by removing Channel 243A and adding Channel 243C1 at Julesburg.

5. Section 73.202(b), the Table of FM Allotments under Florida, is amended by removing Channel 253C and adding Channel 253C0 at Panama City and by removing Channel 254C2 and adding Channel 254C1 at Pensacola.

6. Section 73.202(b), the Table of FM Allotments under Louisiana, is amended by removing Channel 241C and adding Channel 241C1 at Lake Charles.

7. Section 73.202(b), the Table of FM Allotments under Missouri, is amended by removing Channel 223C1 and adding Channel 223C0 at Joplin.

8. Section 73.202(b), the Table of FM Allotments under South Carolina, is amended by removing Channel 244A and adding Channel 244C3 at Cayce and by removing Channel 221C2 and adding Channel 221C1 at Myrtle Beach.

9. Section 73.202(b), the Table of FM Allotments under Texas, is amended by removing Channel 295A and adding Channel 295C3 at Kerens.

Federal Communications Commission.
John A. Karousos,
Assistant Chief, Audio Division, Media Bureau.

[FR Doc. 03-1202 Filed 1-17-03; 8:45 am]

BILLING CODE 6712-01-P